DEPARTMENT OF TRANSPORTATION

Office of the Secretary

14 CFR Part 251

[Docket No. DOT-OST-2014-0231]

RIN 2105-AE37

Carriage of Musical Instruments

AGENCY: Office of the Secretary (OST), Department of Transportation (DOT).

ACTION: Final rule.

SUMMARY: The Department of Transportation is issuing a final rule to implement section 403 of the FAA Modernization and Reform Act of 2012 regarding the carriage of musical instruments as carry-on baggage or checked baggage on commercial passenger flights operated by air carriers. This rule responds to difficulties musicians have encountered when transporting their instruments during air travel.

DATES: Effective Date: This rule is effective March 6, 2015.

FOR FURTHER INFORMATION CONTACT: Clereece Kroha or Blane A. Workie, Office of the Assistant General Counsel for Aviation Enforcement and Proceedings, U.S. Department of Transportation, 1200 New Jersey Ave. SE., Washington, DC 20590, 202-366-9342 (phone), 202-366-7152 (fax), clereece.kroha@dot.gov or blane.workie@dot.gov (email).

SUPPLEMENTARY INFORMATION:

Background

On February 14, 2012, the FAA Modernization and Reform Act of 2012 (the Act) was signed into law. Section 403 of the Act requires U.S. air carriers to accept musical instruments on their passenger flights either as carry-on baggage or checked baggage, provided that certain conditions are met. The passage of Section 403 is Congress' response to difficulties musicians have encountered when transporting their instruments during air travel. The statute directs the Department of Transportation (Department or DOT) to issue a final rule to implement the requirements set forth in section 403.

During the past year, the Department has been engaged in dialogue with musicians as well as representatives of airlines and industry associations to address the difficulties musicians face when traveling by air with musical instruments. In July 2014, DOT Secretary Anthony Foxx hosted a “Flying with Musical Instruments” meeting to provide airline representatives, musicians, and government officials an opportunity to exchange ideas on ways to prevent or resolve difficulties encountered by musicians when flying with their instruments while still ensuring the safety of passengers and crew. At the meeting, several members of various musician organizations described problems that musicians encounter when traveling by air with their musical instruments, particularly when bringing instruments as carry-on baggage. Airline representatives in attendance described their policies for transport of musical instruments as carry-on or checked baggage. Many airlines have already adopted policies concerning the air transportation of musical instruments that mirror the requirements in Section 403 of the Act. The stakeholders recognized that, while most airlines' current policies regarding musical instruments are consistent with the statute, frontline customer service agents and flight crew may not always be well-versed in those policies and may not communicate those policies accurately and effectively to musicians. By the same token, the meeting attendees also agreed that many musicians were not very well informed about airline policies regarding transporting musical instruments or about the measures they can take to better prepare themselves to ensure that the transport goes smoothly.

Since then, the stakeholders have voluntarily taken certain steps to better understand the extent of the problem and prevent or minimize confusion over musical instruments as carry-on baggage. The American Federation of Musicians (AFM) has shared with the airline industry a survey it conducted among its members that identified problematic areas when traveling by air with instruments. Airlines for America (A4A), the trade organization for major U.S. airlines, established a page on its Web site that provides a summary of member airlines' baggage policy regarding musical instruments and links to each individual carrier's Web page for that information. The Department has created a Web page providing useful tips and information for consumers on how to prepare for air travel with musical instruments. The Department also convened a follow-up meeting in September 2014, and may conduct additional such meetings to further explore problems facing musicians when traveling by air that are not specifically addressed by the statute. This cooperation between musician organizations and airline representatives as a parallel approach to the Department's rulemaking may achieve the optimal result of ensuring the safe transport of musical instruments by air and increasing efficiency and customer satisfaction.

Provisions of the Final Rule

Covered Entities and Flights

Section 403 of the Act covers “[a]n air carrier providing air transportation.” According to the definition in 49 U.S.C. 40102(a)(2), “air carrier” means a citizen of the United States undertaking by any means, directly or indirectly, to provide air transportation. 49 U.S.C. 40102(a)(5) provides that “air transportation” includes foreign air transportation or interstate air transportation. Those terms in turn are defined in 49 U.S.C. 40102(a) to mean the transportation of passengers or property by aircraft as a common carrier for compensation. Thus, this final rule implementing Section 403 covers all U.S. certificated and commuter carriers, as well as air taxis operating under exemption authority, that provide air transportation to the public directly, regardless of the size of the aircraft they operate, and all indirect carriers such as public charter operators. It covers the scheduled and charter flights operated by these carriers in domestic or international air transportation. This final rule covers public charter operators only to the extent the public charter operator at issue handles checked and carry-on baggage acceptance for the flight. In this situation, if the carriage of a musical instrument is consistent with the Federal Aviation Administration (FAA)-approved carry-on baggage or checked baggage program of the direct air carrier operating a public charter flight and there is room for the instrument at the time the passenger in question attempts to board, the public charter operator must accept the instrument as carry-on or checked baggage as appropriate.

Transport of Small Instruments as Carry-On Baggage

This rule requires that carriers must allow a passenger to carry into the cabin and stow a small musical instrument, such a violin or a guitar, in a suitable baggage compartment, such as the overhead bin or under the seats in accordance with FAA safety regulations. The FAA regulations require each carrier holding a Part 121 or Part 135 operating certificate to ensure that carry-on baggage is carried on board in accordance with an FAA-approved carry-on baggage program. See 14 CFR 121.285, 121.589, and 135.87. Further, in Advisory Circular (AC) 121-29B, FAA provides 11 categories of information that a carrier's carry-on baggage program must address, including a description of procedures a carrier will follow for stowage of “unusual or fragile items” (See AC 121-29B Section 4(e)(3)). Although not specifically referring to musical instruments, we believe this section is applicable to the transport of musical instruments as they tend to fall into the category of “unusual or fragile items” due to their size, shape, and nature. Section 4(e)(3) provides that if the crew cannot check or stow an unusual or fragile item in a manner that ensures the safety of the aircraft and its occupants, the passenger will have to ship that item by some other means. In complying with this final rule and accepting a passenger's musical instrument as carry-on baggage for stowage in an approved compartment or other specifically approved area in the cabin (e.g., the overhead bin or under seats), we expect carriers to continue to follow their FAA-approved carry-on baggage programs to ensure the safety of the flight and the passengers and crew onboard. In addition, carriers should adequately inform passengers and the public about the limitations and restrictions imposed by these programs.

Section 403 of the Act and this final rule provide that carriers are required to allow passengers to stow their musical instruments in an approved stowage area in the cabin only if at the time the passenger boards the aircraft such stowage space is available. With the exception of certain disability assistance devices, overhead bins or under seat stowage space is available to all passengers and crew members for their carry-on baggage on a “first come, first served” basis. Accordingly, carriers are not required to remove other passengers' or crew members' carry-on baggage that is already stowed in order to make space for a musical instrument. However, this also means carriers are not allowed to require a passenger to remove his or her musical instrument that is already safely stowed (e.g., in the overhead bin) to make room for carry-on baggage of other passengers who boarded the aircraft later than the passenger with the musical instrument. This is true even if the space taken by the musical instrument could accommodate one or more other carry-on items. Because the rule does not require that musical instruments be given priority over other carry-on baggage, we encourage passengers traveling with musical instruments to take steps to board before as many other passengers as possible to ensure that space will be available for them to safely stow their instruments in the cabin. This includes utilizing pre-boarding opportunities that some carriers offer (usually for a fee).

This rule also states that carriers are prohibited from charging passengers with a musical instrument as carry-on baggage an additional fee other than any standard fee carriers impose for carry-on baggage. By including such a requirement in the statute, Congress clearly meant to require carriers to treat musical instruments in the cabin as no different from other carry-on baggage. For example, many carriers' FAA-approved carry-on baggage programs permit one piece of carry-on baggage plus one personal item such as a purse or a briefcase. If the passenger with the musical instrument already has these two standard items and the musical instrument is the third carry-on item, that carrier may not permit the passenger to board the aircraft with a third carry-on item. As per Federal Aviation Regulations, no air carrier may allow a passenger to board the aircraft with more carry-on items than allowed in that carrier's FAA-approved carry-on baggage program. Any fees imposed by a carrier for any piece of carry-on baggage is also applicable to a musical instrument carried onboard. This would include a situation where a carrier's FAA-approved carry-on baggage program allows each passenger two pieces of carry-on baggage but the airline charges a fee for a second piece. If a passenger with a musical instrument already has one piece of (free) carry-on baggage, the airline is permitted to charge its standard fee for a second piece of carry-on baggage even if the second piece is a musical instrument.

Transporting Large Instruments as Carry-On Baggage

For some musical instruments that are too large to fit in the cabin stowage areas described in the carrier's FAA-approved carry-on baggage program (e.g., an overhead bin or under a seat), it is sometimes possible to secure them to a seat as “seat baggage” or “cargo in passenger cabin” as regulated by 14 CFR 121.285. As FAA Advisory Circular 121-29B: Carry-On Baggage (AC121-29B) and relevant FAA safety regulations do not mandate that a carrier must allow in their carry-on baggage programs the stowage of a large carry-on item on a passenger seat, we do not require in this final rule that those carriers whose programs do not provide such stowage amend their programs to allow it.

We do, however, encourage these carriers to consider modifying their programs to allow the stowage of large musical instruments at passenger seats, provided that all safety requirements are met. Some of the safety requirements have already been incorporated in Section 403 and this final rule, such as the requirement that the instrument must be contained in a case or covered as to avoid injury to other passengers, and the requirement that the instrument including the case or covering cannot exceed 165 pounds or the applicable weight restriction for the aircraft. Other safety requirements contained in FAA regulations that carriers must follow when transporting a musical instrument at a seat include that the item is restrained to the inertia forces in 14 CFR 25.561; it is properly secured by a safety belt or other tie down having enough strength to eliminate the possibility of shifting under all normally anticipated flight and ground conditions; it does not impose any load on seats or the floor structure that exceeds the load limitation for those components; its location does not restrict access to or use of any required emergency or regular exit, or of the aisle in the passenger compartment; and its location does not obscure any passenger's view of the “seat belt” sign, “no smoking” sign, or required exit sign, unless an auxiliary sign or other approved means for proper notification of the passenger is provided. See 14 CFR 121.285(c) and 14 CFR 135.87(c). Also, when assigning a seat that will be used to transport a musical instrument as cargo in the passenger cabin, carriers must not assign a seat where the instrument may obscure other passengers' view of safety signs that are required to remain visible. In the event a passenger purchases a seat for his or her musical instrument and it is later discovered that the location of the assigned seat is such that the musical instrument may obscure other passengers' view of the “seat belt” sign, “no smoking” sign, or required exit signs, carriers should work with the passenger to determine if any other available seat in that class of service can safely accommodate the musical instrument.

Because carriers must comply with a number of safety requirements, we encourage passengers purchasing a seat for a large musical instrument to provide advance notice to the carrier that the seat is being purchased to transport an instrument and to follow that carrier's policies regarding the transportation of the musical instrument in the cabin. Carriers whose carry-on baggage programs allow such stowage should ensure that their reservation agents and airport agents are trained to provide appropriate seat assignments to the passenger and the instrument to ensure compliance with safety requirements, and that their crews are trained and have the appropriate restraining device for securing the instrument to the seat.

With respect to the cost to a passenger to transport a musical instrument on a passenger seat, assuming all of the safety requirements are met, carriers cannot charge the passenger more than the price of a ticket for the additional seat—for example, by adding on a fee specifically for transporting a musical instrument. However, this does not preclude carriers from charging standard ancillary service fees. For example, to the extent carriers charge a fee for an advance seat assignment, and the passenger requests advance seat assignments for him or herself and for the instrument, the carrier may charge the advance seat assignment fee for each seat assignment.

Transporting Large Instruments as Checked Baggage

As mandated by the Act, this rule requires carriers to accept musical instruments in the cargo compartment as checked baggage if those instruments comply with the size and weight limitations provided in Section 403 and FAA's safety regulations. As Section 403 is silent on the charges carriers may impose on transporting musical instruments in the cargo compartment, and we recognize that carriers' cost in transporting baggage and cargo is directly related to its size and weight, consistent with the clear intent of the Act, we conclude that carriers may impose the same checked-baggage charges that apply to other checked baggage of that size and weight. If a musical instrument exceeds the size or weight limits in the carrier's free baggage allowance but does not exceed the size or weight limits of Section 403, the carrier may assess the same over-size and over-weight charges that are applicable to other checked baggage that is over-size or over-weight.

Good Cause for Issuing Rule Without Prior Notice and Comment

Section 553 of the Administrative Procedure Act (5 U.S.C. 553) provides that when an agency, for good cause, finds that notice and public procedure are impractical, unnecessary, or contrary to the public interest, the agency may issue a final rule without providing notice and an opportunity for public comment (5 U.S.C. 553(b)(B)). The Department has determined that there is good cause to issue this final rule without notice and an opportunity for public comment because such notice and comment would be unnecessary. This rule implements Section 403 of the FAA Modernization and Reform Act by incorporating the statutory language virtually verbatim and without interpretation. Since the Department is exercising no discretion in issuing this rule, public comment is unnecessary.

Regulatory Analyses and Notices

A. Executive Order 12866 (Regulatory Planning and Review) and DOT Regulatory Policies and Procedures

The Department has determined that this action is not a significant regulatory action within the meaning of Executive Order 12866, and within the meaning of the Department of Transportation's regulatory policies and procedures. The Department is issuing a final rule to implement section 403 of the FAA Modernization and Reform Act of 2012 (Pub. L. 112-95, 49 U.S.C. 41724) regarding the carriage of musical instruments as carry-on baggage or checked baggage on commercial passenger flights operated by air carriers. In this section, we present information on current carrier policies about transporting musical instruments, provide data on various categories of beneficiaries from the rule, and estimate the costs to U.S. carriers to modify or develop instrument policies that comply with rule requirements.

Current Carrier Policies

Currently, most large U.S. carriers post specific policies on musical instrument carriage on their Web sites. We reviewed these policies and found that the specific size (length plus width plus height) and weight limitations for instruments carried as checked baggage vary substantially among carriers with published policies. Some carriers have maximum case size limits—typically combined dimensions of 115”, although one carrier allows cases with maximum dimensions of 126”. The threshold size for oversized baggage charges varies from 62” to 90”, depending on the carrier. Maximum weight limits for checked baggage also vary from 70 to 100 pounds among large U.S. carriers with stated weight limits. However, there are several carriers that post policies without specified limits on case size or weight.

Case dimensions and instrument plus case weights were compiled from Amazon.com and other Web sites to assess the extent to which current policies would potentially bar musicians from traveling with certain types of instruments. Hard cases for tubas exceed the 90” combined dimensions, a threshold at which some carriers charge for oversize baggage, but they are typically under the 115” size that some carriers have established as the current maximum allowable size for checked baggage. Cases for (stringed) double basses are larger than the 115” size limit, and these instruments may also be sufficiently large to preclude them from being flown as carry-on baggage in a separately purchased seat. It therefore appears that nearly all large U.S. carriers would need to modify their current instrument transport policies to take into account the Act's and rule's requirements.

While individual musicians and smaller groups are likely to travel most frequently on scheduled flights, larger ensembles and orchestras may find it more efficient to travel together on chartered flights. None of the largest U.S. charter carriers post specific policies about musical instruments or, for the most part, general baggage policies, on their Web sites.

Benefits

Beneficiaries of the rule would include professional and amateur musicians who travel with instruments, particularly large instruments that may be subject to more restrictive transportation limits under current carrier policies. Increased ability of these musicians to travel with their instruments could also potentially benefit owners and employees of establishments hosting musical events and people who attend events at which these musicians would be more likely to be able to play.

Estimates of the numbers of professional musicians employed by others are available from the May 2013 BLS Occupational Employment Survey (OES), the 2012 Economic Census, and the 2011 Statistics of U.S. Business (SUSB). The May 2013 OES data indicate that there were 39,260 professional musicians and singers with mean hourly wage of $32.10. Wage data from the OES and payroll data from the OES Census and SUSB are consistent with a daily wage of between $211 and $257, assuming that the average musician performs approximately 180 days annually. Aggregate earnings for professional musicians employed by others are estimated at about $1.5 billion annually. It would be reasonable to assume that professional musicians travel by air at the same rate as the general flying public—an average of 1-2 round trips per year—but there are no data on the distribution of instruments that musicians currently transport or would like to be able to transport on these trips.¹

¹ It is likely that musicians with relatively compact instruments—e.g., violins, woodwinds—encounter fewer difficulties in transporting instruments by air than do those who play larger instruments, particularly acoustic guitars, cellos, string basses, and tubas. We have assumed for this analysis that the rule requirements would not be sufficient to facilitate air transportation of especially large or heavy instruments such as harps, vibraphones, and tympani.

A broader measure of the number of professional musicians is available from the Current Population Survey (CPS), which includes self-employed and part-time workers in its estimate of “musicians, singers, and related workers.” Assuming that the share of related workers (music composers and directors) is the same as in the OES data, there were approximately 127,000 employed musicians in 2013.

The monetary value of the benefit that a professional musician would receive from consistent carrier policies that comply with the rule could not be estimated. This value depends on at least three factors that could not be quantified:

1. The distribution of instrument played by professional musicians.

2. The extent to which musicians currently encounter difficulties in carrying or checking instruments on the carriers and routes he or she wishes to travel on.

3. The extent to which any loss of income from not being able to perform at events that require air travel could be mitigated by additional performances at destinations or facilities for which instrument transportation is not a problem.

Amateur musicians would also benefit from the proposed rule. This group includes a large number of school age children and their music teachers. School age children who play instruments could reasonably be expected to travel with them if possible—both to perform at out-of-town events and on trips to visit family members. The National Center for Education Statistics Schools and Staffing Survey (SASS) estimates that there were nearly 117,000 public school teachers whose primary assignment was music instruction during the 2011-2012 school year. The number of children who play musical instruments was estimated by assuming that half of these teachers are instrumental music teachers and that each of them teaches an average of 100 students each week. Under these assumptions, there are approximately 5.8 million school age children who play musical instruments.² However, it is not possible to monetize the value of the additional practice and performance time that school age musicians may be able to have if their ability to transport instruments by air is enhanced under the rule requirements.

² This estimate does not include private school students and children who receive private group or individual lessons but do not have instrumental music classes in public schools. It also does not take into account the proportion of students who play piano and other instruments that carriers would not be responsible for transporting under the rule.

Costs

The rule would require most covered carriers with specific policies about transportation of musical instruments to modify these policies to comply with the rule requirements; update written, electronic, and phone guidance provided to customers; and ensure that gate agents, flight crews, and baggage handlers are aware of these requirements. Covered carriers that do not currently have policies for the transportation of musical instruments would have to develop policies that comply with the rule requirements; prepare materials on these policies in written and electronic form; and train employees about these requirements.

Carriers routinely update their baggage fees and policies, as well as other aspects of their customer service plans. Costs for developing or revising customer service plans (CSPs) were estimated for a 2011 rule (“Enhancing Airline Passenger Protections II”). The accompanying regulatory evaluation estimated that it would cost large carriers with existing service plans an average of $35,000 to develop compliant CSPs. Per-firm costs for smaller carriers—many of which did not have formal CSPs at the time the rule was promulgated—were estimated at about $4,000 per firm. Based on tabulations from the BTS T-100 data for 2013 and our review of carrier Web site information, there are 12 large carriers that currently have specific musical instrument carriage plans and 86 other U.S. carriers that have less specific or no specific policies about transporting musical instruments. Using the per-carrier cost estimates from the previous regulatory evaluation, modifying or developing musical instrument carriage policies is expected to cost about $732,000.

Counter agents, gate agents, and baggage acceptance personnel will need to be informed of the new requirements, and periodic reminders or audits may need to be conducted to ensure compliance with compliant musical instrument transportation policies. Because only larger carriers are required to file employment information with the BTS on form P-10, data on industry employment was obtained from the 2013 BLS OES. Four categories of employees appear to be most likely to require training on compliant musical instrument transportation policies:

• Baggage and gate operations managers

• Counter and gate agents

• First-line supervisors of these agents

• Baggage acceptance clerks and handlers

However, each of these groups of employees is included within a more general occupational category of employees, most of whom would not require specific training or communication about modified or newly developed musical instrument policies. Based on experience from previous regulatory evaluations, Econometrica developed estimates of the share of each of the four relevant categories of employees from the OES data who would need training. Each of these employees was assumed to require an average of 1 hour of training annually to ensure that they understand and comply with the rule requirements. Training time was valued at the average annual wage rates for each of these four labor categories.³

³ Flight attendants may also need to receive some communication and training about the modified or newly developed policies. However, the 2013 OES data do not report the number of flight attendants or their average hourly wage rates.

Based on the calculations shown in the table below, we estimate that the annual cost of this training for 98 affected U.S. carriers would be $474,000.

Table—Estimated Annual Training Cost for U.S. Carriers
BLS occupational category | Total employees | Percent with passenger baggage handling responsibilities | Employees requiring training * | Hourly wage | Annual training cost **
General and Operations Managers | 11,110 | 10 | 1,111 | $55.34 | $61,483
Reservation Agents and Ticket Clerks | 88,390 | 20 | 17,678 | 17.77 | 314,138
First-Line Supervisors | 9,820 | 10 | 982 | 26.58 | 26,102
Laborers and Material Movers | 22,880 | 20 | 4,576 | 15.80 | 72,301
Total | 132,200 |  | 24,347 |  | 474,023
* Econometrica, Inc. estimates.
** Assumes one hour of training per employee required annually.

B. Regulatory Flexibility Act

The Regulatory Flexibility Act (5 U.S.C. 601 et seq.) requires an agency to review regulations to assess their impact on small entities unless the agency determines that a rule is not expected to have a significant economic impact on a substantial number of small entities. However, when notice and comment rulemaking is not necessary, the provisions of the Regulatory Flexibility Act do not apply. Nevertheless, the Department has evaluated the effects of this action on small entities and has determined that the action will not have a significant economic impact on a substantial number of small entities. The regulatory requirements imposed by this final rule cover some small entities, but the requirements will not have a significant impact on them because the rule does not require any carrier to modify its FAA-approved carry-on baggage program if that program does not already provide for accepting musical instruments as “cargo in passenger compartment” and to be stowed in a passenger seat. Further, the additional requirements of the rule, such as transporting small musical instruments on the same terms as other carry-on bags, and transporting large musical instruments in seats or as checked baggage for the same fees that are charged to other passengers, do not impose significant costs on carriers. There may also be costs associated with training airline personnel to ensure that they understand these requirements and adhere to them but these costs are not significant. For these reasons, I hereby certify that this rule will not have a significant economic impact on a substantial number of small entities.

C. Executive Order 13132 (Federalism)

This final rule has been analyzed in accordance with the principles and criteria contained in Executive Order 13132 (“Federalism”). This final rule does not include any provision that: (1) Has substantial direct effects on the States, the relationship between the national government and the States, or the distribution of power and responsibilities among the various levels of government; (2) imposes substantial direct compliance costs on State and local governments; or (3) preempts State law. States are already preempted from regulating in this area by the Airline Deregulation Act, 49 U.S.C. 41713. Therefore, the consultation and funding requirements of Executive Order 13132 do not apply.

D. Executive Order 13084

This final rule has been analyzed in accordance with the principles and criteria contained in Executive Order 13084 (“Consultation and Coordination with Indian Tribal Governments”). Because this final rule does not significantly or uniquely affect the communities of the Indian Tribal governments or impose substantial direct compliance costs on them, the funding and consultation requirements of Executive Order 13084 do not apply.

E. National Environmental Policy Act

The Department has analyzed the environmental impacts of this action pursuant to the National Environmental Policy Act of 1969 (NEPA) (42 U.S.C. 4321 et seq.) and has determined that it is categorically excluded pursuant to DOT Order 5610.1C, Procedures for Considering Environmental Impacts (44 FR 56420, Oct. 1, 1979). Categorical exclusions are actions identified in an agency's NEPA implementing procedures that do not normally have a significant impact on the environment and therefore do not require either an environmental assessment (EA) or environmental impact statement (EIS). See 40 CFR 1508.4. In analyzing the applicability of a categorical exclusion, the agency must also consider whether extraordinary circumstances are present that would warrant the preparation of an EA or EIS. Id. Paragraph 4.c.6.i of DOT Order 5610.1C covers “actions relating to consumer protection, including regulations.”. The purpose of this rulemaking is to implement regulations regarding the carriage of musical instruments as carry-on baggage or checked baggage on commercial passenger flights operated by air carriers. The Department does not anticipate any environmental impacts, and there are no extraordinary circumstances present in connection with this rulemaking.

F. Paperwork Reduction Act

This final rule does not contain any new information collection and therefore is not subject to the Paperwork Reduction Act of 1995 (Pub. L. 104-13, 49 U.S.C. 3501 et seq.).

G. Unfunded Mandates Reform Act

The Department has determined that the requirements of Title II of the Unfunded Mandates Reform Act of 1995 do not apply to this rule.

Issued this 29th day of December 2014, in Washington, DC.
Anthony R. Foxx,
Secretary of Transportation.

List of Subjects in 14 CFR Part 251

Air carriers, Consumer protection.

For the reasons set forth in the preamble, the Department amends 14 CFR Chapter II by adding a new part 251 to read as follows:

PART 251—CARRIAGE OF MUSICAL INSTRUMENTS

Sec.
251.1 Definitions.
251.2 Applicability.
251.3 Small musical instruments as carry-on baggage.
251.4 Large musical instruments as carry-on baggage.
251.5 Large musical instruments as checked baggage.

Authority: 49 U.S.C. 41724.

§ 251.1 Definitions.

As used in this part:

Certificated air carrier means a U.S. carrier holding a certificate issued under 49 U.S.C. 41102 to conduct passenger service or holding an exemption to conduct passenger operations under 49 U.S.C. 40109.

Commuter air carrier means a U.S. carrier that has been found fit under 49 U.S.C. 41738 and is authorized to carry passengers on at least five round trips per week on at least one route between two or more points according to a published flight schedule using small aircraft as defined in 14 CFR 298.2.

Covered carrier means a certificated carrier, a commuter carrier, an air taxi, or a U.S. indirect carrier operating to, from, or within the United States, conducting scheduled passenger service or public charter service.

FAA means the Federal Aviation Administration, an operating administration of the Department of Transportation.

Indirect carrier means a person not directly involved in the operation of an aircraft who sells air transportation services to the general public other than as an authorized agent of a carrier.

§ 251.2 Applicability.

This part applies to U.S. certificated air carriers, U.S. commuter air carriers, air taxis, and U.S. indirect carriers that operate passenger service to, from, or within the United States.

§ 251.3 Small musical instruments as carry-on baggage.

Each covered carrier shall permit a passenger to carry a violin, guitar, or other small musical instrument in the aircraft cabin, without charging the passenger a fee in addition to any standard fee that carrier may require for comparable carry-on baggage, if:

(a) The instrument can be stowed safely in a suitable baggage compartment in the aircraft cabin or under a passenger seat, in accordance with the requirements for carriage of carry-on baggage or cargo established by the FAA; and

(b) There is space for such stowage at the time the passenger boards the aircraft.

§ 251.4 Large musical instruments as carry-on baggage.

Each covered carrier shall permit a passenger to carry a musical instrument that is too large to meet the requirements of § 251.3 in the aircraft cabin, without charging the passenger a fee in addition to the cost of an additional ticket described in paragraph (e) of this section, if:

(a) The instrument is contained in a case or covered so as to avoid injury to other passengers;

(b) The weight of the instrument, including the case or covering, does not exceed 165 pounds or the applicable weight restrictions for the aircraft;

(c) The instrument can be stowed in accordance with the requirements for carriage of carry-on baggage or cargo established by the FAA;

(d) Neither the instrument nor the case contains any object not otherwise permitted to be carried in an aircraft cabin because of a law or regulation of the United States; and

(e) The passenger wishing to carry the instrument in the aircraft cabin has purchased an additional seat to accommodate the instrument.

§ 251.5 Large musical instruments as checked baggage.

Each covered carrier shall transport as baggage a musical instrument that is the property of a passenger traveling in air transportation that may not be carried in the aircraft cabin if

(a) The sum of the length, width, and height measured in inches of the outside linear dimensions of the instrument (including the case) does not exceed 150 inches or the applicable size restrictions for the aircraft;

(b) The weight of the instrument does not exceed 165 pounds or the applicable weight restrictions for the aircraft; and

(c) The instrument can be stowed in accordance with the requirements for carriage of carry-on baggage or cargo established by the FAA.

[FR Doc. 2014-30836 Filed 1-2-15; 8:45 am]

BILLING CODE 4910-9X-P